DEPARTMENT OF EDUCATION

Agency Information Collection Activities; Submission to the Office of Management and Budget for Review and Approval; Comment Request; Application Forms and Instructions for the National Resource Centers (84.015A) and Foreign Language and Area Studies Fellowships (84.015B) Programs

AGENCY: Department of Education (ED).

ACTION: Notice.

SUMMARY: In accordance with the Paperwork Reduction Act of 1995, ED is proposing an extension of an existing information collection.

DATES: Interested persons are invited to submit comments on or before September 8, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Sarah Beaton, 202-453-7221.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Forms and Instructions for the National Resource Centers (84.015A) and Foreign Language and Area Studies Fellowships (84.015B) Programs.

OMB Control Number: 1840-0807.

Type of Review: An extension of an existing information collection.

Respondents/Affected Public: Private Sector.

Total Estimated Number of Annual Responses: 165.

Total Estimated Number of Annual Burden Hours: 17,325.

Abstract: This information collection (OMB 1840-0807) includes application instructions and forms for the National Resource Centers (NRC) Program (CFDA Number 84.015A) and the Foreign Language and Area Studies (FLAS) Fellowships Program (CFDA Number 84.015B), authorized under Title VI of the Higher Education Act of 1965, as amended (20 U.S.C. Section 1122). The type of collection is an extension of a previously-approved information collection (application).

The NRC Program provides grants to institutions of higher education (IHE) or consortia of IHEs to establish, strengthen, and operate comprehensive and undergraduate foreign language and area or international studies centers. These centers serve as centers of excellence for world language training and teaching, research, and instruction in fields needed to provide full understanding of areas, regions, or countries where the languages are commonly used. The FLAS Fellowship Program awards allocations of fellowships, through institutions of higher education, to meritorious students enrolled in programs that offer performance-based instruction in world languages in combination with area studies, international studies, or the international aspects of professional studies.

Together, these programs respond to the ongoing national need for individuals with expertise and competence in world languages and area or international studies; advance national security by developing a pipeline of highly proficient linguists and experts in critical world regions; and contribute to developing a globally competent workforce able to engage with a multilingual/multicultural clientele at home and abroad. Approval of this collection is necessary in order to conduct fiscal year (FY) 2022 program competitions.

This collection is being submitted under the Streamlined Clearance Process for Discretionary Grant Information Collections (1894-0001). Therefore, the 30-day public comment period notice will be the only public comment notice published for this information collection request.”

Dated: August 3, 2020.
Kate Mullan,
PRA Coordinator, Strategic Collections and Clearance, Governance and Strategy Division, Office of Chief Data Officer, Office of Planning, Evaluation and Policy Development.

[FR Doc. 2020-17160 Filed 8-5-20; 8:45 am]

BILLING CODE 4000-01-P